DEPARTMENT OF HOMELAND SECURITY

Coast Guard

33 CFR Part 110

[Docket No. USCG-2014-0142]

RIN 1625-AA01

Anchorage Regulations; Special Anchorage Areas, Marina del Rey Harbor, California

AGENCY: Coast Guard, DHS.

ACTION: Supplemental notice of proposed rulemaking; reopen comment period.

SUMMARY: The Coast Guard is re-opening the comment period for its supplemental notice of proposed rulemaking (SNPRM), published in May 2014. The Coast Guard is proposing to amend the shape and reduce the size of the special anchorage in Marina del Rey Harbor, California. Additionally, we propose to clarify the language in the note section of the existing regulation. Because the date of the public meeting was not published in the Federal Register until after the meeting was held, the Coast Guard is providing an additional opportunity for public comment.

DATES: Comments and related material must reach the Coast Guard on or before August 15, 2016.

ADDRESSES: You may submit written comments identified by docket number USCG-2014-0142 using the Federal eRulemaking Portal at http://www.regulations.gov.

FOR FURTHER INFORMATION CONTACT: If you have questions concerning the proposed rule, please call or email Lieutenant Junior Grade Colleen Patton, Waterways Management Branch, Eleventh Coast Guard District, telephone 510-437-5984, email Colleen.M.Patton@uscg.mil.

SUPPLEMENTARY INFORMATION:

Background and Purpose

We published a notice of proposed rulemaking (NPRM) in the Federal Register on May 28, 2014 (79 FR 30509), entitled “Anchorage Regulations: Special Anchorage Areas, Marina del Rey Harbor, California.” The NPRM proposed to disestablish the special anchorage area. In response to comments received, we have issued a supplemental NPRM (81 FR 10156, February 29, 2016) to retain the special anchorage, but amend the shape and reduce the size of the anchorage to remove the anchorage area from a location where it could endanger vessel traffic.

Because the date of the public meeting was not published in the Federal Register until after the meeting was held, we have concluded that additional comments would aid this rulemaking. Therefore, we are publishing this document to reopen the comment period.

You may view the SNPRM, in our online docket, in addition to supporting documents prepared by the Coast Guard and comments submitted thus far by going to http://www.regulations.gov. Once there, insert “USCG-2014-0142” in the “Keyword” box and click “Search.”

We encourage you to participate in this rulemaking by submitting comments to the docket through the Federal eRulemaking Portal at http://www.regulations.gov. If your material cannot be submitted using http://www.regulations.gov, contact the person in the FOR FURTHER INFORMATION CONTACT section of this document for alternate instructions.

Anyone can search the electronic form of comments received into any of our dockets by the name of the individual submitting the comment (or signing the comment, if submitted on behalf of an association, business, labor union, etc.). You may review a Privacy Act notice regarding our public dockets in the March 24, 2005, issue of the Federal Register (70 FR 15086).

Public Meeting

We do not now plan to hold another public meeting, but will consider holding one in response to a request from the public. You may submit a request for a meeting either by submitting a comment to the docket or by writing to Eleventh Coast Guard District at the address under ADDRESSES explaining why one would be beneficial. If we determine that a meeting would aid this rulemaking, we will hold one at a time and place announced by a later notice.

Reopening the Comment Period

The comment period for the SNPRM published in February 2016 ended April 30, 2016. In order to give the public a chance to make additional comments, the Coast Guard is reopening the comment period on our SNPRM. All comments must reach the public docket at the address found in ADDRESSES on or before August 15, 2016.

Dated: June 10, 2016.
J.A. Servidio,
RADM, U.S. Coast Guard, Commander, Eleventh Coast Guard District.

[FR Doc. 2016-16713 Filed 7-13-16; 8:45 am]

BILLING CODE 9110-04-P